DEPARTMENT OF JUSTICE

Antitrust Division

Notice Pursuant to the National Cooperative Research and Production Act of 1993—Z-Wave Alliance, Inc.

Notice is hereby given that, on November 1, 2023, pursuant to section 6(a) of the National Cooperative Research and Production Act of 1993, 15 U.S.C. 4301 et seq. (the “Act”), Z-Wave Alliance, Inc. (the “Joint Venture”) filed written notifications simultaneously with the Attorney General and the Federal Trade Commission disclosing changes in its membership. The notifications were filed for the purpose of extending the Act's provisions limiting the recovery of antitrust plaintiffs to actual damages under specified circumstances.

Specifically, Institute of Digital Guangdong, Guangzhou, PEOPLE'S REPUBLIC OF CHINA; Versa Wireless Inc., Surrey, CANADA; Omar Abed Alkarim Darwish, Ypsilanti, MI; and Trident IoT LLC, Carlsbad, CA have joined as parties to the venture.

Also, Technicolor Connected Home Rennes, Cesson-Sevigne Cedex, FRANCE; Technicolor Connected Home USA, LLC, Lawrenceville, GA; Control & More, Riyadh, SAUDI ARABIA; Smart AT For You, Teneriffe, AUSTRALIA; Namron AS, Oslo, NORWAY; Takacs Milan EV, Szigetmonostor, HUNGARY; and Octo Telematics SpA, Rome, ITALY have withdrawn as parties to the venture.

In addition, an existing member, Allterco Robotics EOOD, has changed its name to Shelly Europe Ltd., Sofia, BULGARIA.

No other changes have been made in either the membership or the planned activity of the venture. Membership in this venture remains open, and the Joint Venture intends to file additional written notifications disclosing all changes in membership.

On November 19, 2020, the Joint Venture filed its original notification pursuant to section 6(a) of the Act. The Department of Justice published a notice in the Federal Register pursuant to section 6(b) of the Act on December 1, 2020 (85 FR 77241).

The last notification was filed with the Department on August 4, 2023. A notice was published in the Federal Register pursuant to section 6(b) of the Act on October 6, 2023 (88 FR 69672).

Suzanne Morris,
Deputy Director Civil Enforcement Operations, Antitrust Division.

[FR Doc. 2023-27583 Filed 12-14-23; 8:45 am]

BILLING CODE P